DEPARTMENT OF THE INTERIOR

National Park Service

[NPS-WASO-NAGPRA-NPS0036823; PPWOCRADN0-PCU00RP14.R50000]

Notice of Inventory Completion: U.S. Department of the Interior, Bureau of Land Management, Anchorage, AK

AGENCY: National Park Service, Interior.

ACTION: Notice.

SUMMARY: In accordance with the Native American Graves Protection and Repatriation Act (NAGPRA), the U.S. Department of the Interior, Bureau of Land Management (BLM Alaska) has completed an inventory of human remains and has determined that there is a cultural affiliation between the human remains and Indian Tribes or Native Hawaiian organizations in this notice. The human remains were removed from three areas near Kasilof, south of Soldotna, in the northwestern portion of the upper Kenai Peninsula Borough, AK.

DATES: Repatriation of the human remains in this notice may occur on or after November 24, 2023.

ADDRESSES: Robert E. King, Bureau of Land Management, 222 W 7th Avenue, #13, Anchorage, AK 99513, telephone (907) 271-5510, email r2king@blm.gov.

SUPPLEMENTARY INFORMATION: This notice is published as part of the National Park Service's administrative responsibilities under NAGPRA. The determinations in this notice are the sole responsibility of BLM Alaska. The National Park Service is not responsible for the determinations in this notice. Additional information on the determinations in this notice, including the results of consultation, can be found in the inventory or related records held by BLM Alaska.

Description

In 1930, human remains representing, at minimum, seven individuals were removed from three areas about five to ten miles apart and located south of Soldotna, in the northwestern portion of the upper Kenai Peninsula Borough, AK. Five partial sets of human remains [PM# 30-25-150; 30-25-151 & 30-25-153; 30-25-151.1; 30-25-152; 30-25-154] were removed from what was described as an “old graveyard in front of Andrew Berg's house,” located within what is now the Kenai National Wildlife Refuge, about 30 miles southeast of Soldotna on the north shore of Tustumena Lake, AK. Two additional, partial sets of human remains [PM# 30-25-157; 30-25-158] were collected at two different locations about two miles apart during road construction near Kasilof, AK, about 25 miles southeast of Soldotna and west of Tustumena Lake, AK. The remains of all seven individuals, which are estimated to be over 200 years old, were removed by Frederica de Laguna who, at that time, was associated with the University of Pennsylvania Museum of Archaeology and Anthropology in Philadelphia, PA. Following their removal, the human remains were placed in the custody of this museum, where they are currently held. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: archeological and oral traditional.

Determinations

Pursuant to NAGPRA and its implementing regulations, and after consultation with the appropriate Indian Tribes and Native Hawaiian organizations, BLM Alaska has determined that:

• The human remains described in this notice represent the physical remains of seven individuals of Native American ancestry.

• There is a relationship of shared group identity that can be reasonably traced between the human remains described in this notice and the Kenaitze Indian Tribe.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after November 24, 2023. If competing requests for repatriation are received, the BLM Alaska must determine the most appropriate requestor prior to repatriation. Requests for joint repatriation of the human remains are considered a single request and not competing requests. BLM Alaska is responsible for sending a copy of this notice to the Indian Tribe identified in this notice.

Authority: Native American Graves Protection and Repatriation Act, 25 U.S.C. 3003, and the implementing regulations, 43 CFR 10.9, 10.10, and 10.14.

Dated: October 18, 2023.
Melanie O'Brien,
Manager, National NAGPRA Program.

[FR Doc. 2023-23541 Filed 10-24-23; 8:45 am]

BILLING CODE 4312-52-P